ENVIRONMENTAL PROTECTION AGENCY

(ER-FRL-6699-4)

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 11, 2008 (73 FR 19833).

Draft EISs

EIS No. 20080122, ERP No. D-UAF-K11120-NV, Nellis Air Force Base (AFB), Proposes to Base 36 F-35 Fighter Aircraft, Assigned to the Force Development Evaluation (FDE) Program and Weapons School (WS) Beddown, Clark County, NV.

Summary: EPA expressed environmental concerns about the increase in noise that would disproportionately affect minority and low-income populations in the vicinity of Nellis AFB. EPA recommended additional specific commitments to mitigate adverse noise effects; salvage, recycle, and reuse of demolition waste; and use of materials with recycled content. Rating EC2.

EIS No. 20080125, ERP No. D-FHW-E40820-NC, I-26 Connector Project, Proposed Multi-Lane Freeway from I-40 to U.S. 19-23-70 North of Asheville, Funding, U.S. Coast Guard Permit, U.S. Army COE Section 10 and 404 Permit, Buncombe County, Asheville, NC.

Summary: EPA has environmental concerns about impacts to streams, potential impacts to water quality, noise receptor impacts, invasive plant species impacts and potential impacts to historic properties. Rating EC1.

EIS No. 20080086, ERP No. DS-FTA-C54010-00, Access to the Region's Core Project, Additional Information on the Build Alternative, To Increase Trans-Hudson Commuter Rail Capacity, Improve System Safety and Reliability between Secaucus Junction Station in NJ and midtown Manhattan, Funding, Hudson County, NJ and New York County, NY.

Summary: EPA expressed environmental concerns about impacts to wetlands, as well as PM 2.5 emissions, landfill disruption and cumulative impacts. EPA requests the FEIS contain a wetland mitigation plan. Rating EC2.

Final EISs

EIS No. 20080081, ERP No. F-FHW-K40263-CA, Interstate 405 (San Diego Freeway) Sepulveda Pass Widening Project, Widening and High Occupancy Vehicle (HOV) Improvements from Interstate 10 to US-101 in the City of Los Angeles, Preferred Alternative is 2, Los Angeles County, CA.

Summary: EPA continues to have environmental concerns about potential water and air quality impacts and impacts from noise, and recommends addressing these issues prior to issuing the Record of Decision.

EIS No. 20080118, ERP No. F-FAA-K51043-CA, Horizon Air Service to Mammoth Yosemite Airport Project, Proposed Operations Specifications Amendment to Provide Scheduled Air Service, Town of Mammoth Lakes, Mono County, CA.

Summary: No formal comment letter was sent to the preparing agency.

EIS No. 20080121, ERP No. F-FHW-F40818-00, Interstate I-94, I-43, I-894, and WI-119 (Airport Spur) I-94/USH 41 Interchange to Howard Avenue, To Address Freeway System's Deteriorated Conditions, Funding and U.S. Army COE Section 404 Permit, Kenosha, Racine, and Milwaukee Counties, WI and Lake County, IL.

Summary: EPA has environmental concerns about the proposed project regarding compensatory wetland mitigation sites, mobile source air toxics, and air quality mitigation efforts. EPA recommends the use of clean diesel strategies during construction.

EIS No. 20080123, ERP No. F-NPS-F65066-MN, Pipestone National Monument General Management Plan, Implementation, Pipestone County, MN.

Summary: EPA continues to express environmental concerns with off-site impacts from land use and development surrounding the site and the need for additional noise mitigation measures.

EIS No. 20080138, ERP No. F-NOA-G64007-00, Reef Fish Amendment 30A: Greater Amberjack—Revise Rebuilding Plan, Accountability Measures: Gray Triggerfish—Establish Rebuilding Plan, End Overfishing, Accountability Measures, Regional Management, Management Thresholds and Benchmarks, Gulf of Mexico.

Summary: No formal comment letter was sent to the preparing agency.

EIS No. 20080149, ERP No. F-SFW-K99037-AZ, Horseshoe and Bartlett Reservoirs Project, To Store and Release Water, Issuance of an Incidental Take Permit for Operation, Located Northeast of Phoenix, Maricopa and Yavapai Counties, AZ.

Summary: No formal comment letter was sent to the preparing agency.

Dated: May 27, 2008.
Ken Mittelholtz,
Environmental Protection Specialist, Office of Federal Activities.

[FR Doc. E8-12095 Filed 5-29-08; 8:45 am]

BILLING CODE 6560-50-P